OFFICE OF MANAGEMENT AND BUDGET

Cost of Hospital and Medical Care Treatment Furnished by the United States; Certain Rates Regarding Recovery From Tortiously Liable Third Persons

Correction

In notice document 01-31663 beginning on page 66477 in the issue of Wednesday, December 26, 2001, make the following correction:

On page 66480, in the table, in the fifth column titled “Other (full/third party), under section 11. Rehabilitative Services, in the second line, “70.00” should read, “170.00”.

[FR Doc. C1-31663 Filed 1-18-02; 8:45 am]

BILLING CODE 1505-01-D

SECURITIES AND EXCHANGE COMMISSION

[Release No. 34-45177; File No. SR-Amex-2001-103]

Self-Regulatory Organizations; Notice of Filing and Immediate Effectiveness of Proposed Rule Change by American Stock Exchange LLC Relating to a Utilization Fee for the “Smart” Wiring Program

December 20, 2001.

Correction

In notice document 01-404 beginning on page 946 in the issue of Tuesday, January 6, 2002, make the following correction:

On page 946, in the second column, in the second paragraph, in the first sentence “$15.00” is changed to read “$150.00”.

[FR Doc. C2-404 Filed 1-18-02; 8:45 am]

BILLING CODE 1505-01-D

SECURITIES AND EXCHANGE COMMISSION

[Release No. 34-45253; File No. SR-Amex-2001-92]

Self-Regulatory Organizations; Notice of Filing of Proposed Rule Change and Amendment No. 1 Thereto by the American Stock Exchange LLC to Simplify the Manner in Which a Contrary Exercise Advice is Submitted and to Extend by One Hour the Time for Members to Submit Customer's Contrary Exercise Advices

January 8, 2002.

Correction

In notice document 02-946 beginning on page 2003 in the issue of Tuesday, January 15, 2002, make the following correction:

On page 2004, in the third column, under the section IV. Solicitation of Comments, in the second line from the bottom, “[insert date 21 days from date of publication].“ should read, “February 5, 2002”.

[FR Doc. C2-946 Filed 1-18-02; 8:45 am]

BILLING CODE 1505-01-D